DEPARTMENT OF HEALTH AND HUMAN SERVICES

National Institutes of Health

National Institute of Neurological Disorders and Stroke; Amended Notice of Meeting

Notice is hereby given of a change in the meeting of the National Institute of Neurological Disorders and Stroke Special Emphasis Panel, November 11, 2009, 3 p.m. to November 11, 2009, 5 p.m., National Institutes of Health, Neuroscience Center, 6001 Executive Boulevard, Rockville, MD 20852 which was published in the Federal Register on October 2, 2009, 74 FR 50975.

The meeting will be held on November 30, 2009. The time and the location of the meeting remains the same. The meeting is closed to the public.

Dated: November 6, 2009.
Jennifer Spaeth,
Director, Office of Federal Advisory Committee Policy.

[FR Doc. E9-27437 Filed 11-13-09; 8:45 am]

BILLING CODE 4140-01-P